DEPARTMENT OF LABOR

Employment and Training Administration

Notice; Revised Schedule of Remuneration for the UCX Program

Under section 8521(a)(2) of title 5 of the United States Code, the Secretary of Labor is required to issue from time to time a Schedule of Remuneration specifying the pay and allowances for each pay grade of members of the military services. The schedules are used to calculate the base period wages and benefits payable under the program of Unemployment Compensation for Ex-servicemembers (UCX Program).

The revised schedule published with this Notice reflects increases in military pay and allowances which were effective in January 2003.

Accordingly, the following new Schedule of Remuneration, issued pursuant to 20 CFR 614.12(c), applies to “first claims” for UCX which are effective beginning with the first day of the first week which begins on or after April 6, 2003.

Pay grade | Monthly rate
(1) Commissioned Officers:
0-10 | $14,857
0-9 | 14,302
0-8 | 13,206
0-7 | 11,992
0-6 | 10,402
0-5 | 8,816
0-4 | 7,554
0-3 | 5,976
0-2 | 4,608
0-1 | 3,527
(2) Commissioned Officers With Over 4 Years Active Duty as an Enlisted Member or Warrant Officer:
0-3E | 6,851
0-2E | 5,513
0-1E | 4,651
(3) Warrant Officers:
W-5 | 7,709
W-4 | 6,832
W-3 | 5,719
W-2 | 4,951
W-1 | 4,217
(4) Enlisted Personnel:
E-9 | 6,453
E-8 | 5,346
E-7 | 4,724
E-6 | 4,124
E-5 | 3,456
E-4 | 2,964
E-3 | 2,660
E-2 | 2,494
E-1 | 2,245

The publication of this new Schedule of Remuneration does not revoke any prior schedule or change the period of time any prior schedule was in effect.

Signed at Washington, DC on March 5, 2003.
Emily Stover DeRocco,
Assistant Secretary of Labor.

[FR Doc. 03-5727 Filed 3-10-03; 8:45 am]

BILLING CODE 4510-30-P